DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from November 16 to November 20, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: February 4, 2010.
J. Paul Loether,
Chief, National Register of Historic Places/National Historic Landmarks Program.

KEY: State, County, Property Name, Address/Boundary, City, Vicinity, Reference Number, Action, Date, Multiple Name

FLORIDA

Dade County

North Shore Historic District, Roughly by 87th St., Collins Ave., 73rd., and Hawthorne Ave., Miami Beach, 09000926, Listed, 11/18/09, (North Beach Community (1919-1963), MPS)

Nassau County

Nassau County Jail, 233 S. 3rd. St., Fernandina Beach, 09000927, Listed, 11/18/09

IOWA

Linn County

Marion Commercial Historic District, 560-748 10th., 958-1298 7th Ave., 760-96 11th St., 766-76 13th St., 1108 8th Ave., and 969 6th Ave., Marion, 09000930, Listed, 11/18/09, (Iowa's Main Street Commercial Architecture MPS)

LOUISIANA

Ouachita Parish

Bosco Plantation House, 279 Pipes Ln., Monroe vicinity, 09000931, Listed, 11/18/09

MARYLAND

Somerset County

Cullen Homestead Historic District, 4533, 27049, and 27067 Lawson Barnes Rd., Crisfield vicinity, 09000932, Listed, 11/18/09

Somerset County

Glebe House, 10950 Market La., Princess Anne vicinity, 09000933, Listed, 11/18/09

MASSACHUSETTS

Barnstable County

Sears, Jacob, Memorial Library, 23 Center St., Dennis, 09000934, Listed, 11/18/09

Essex County

Asbury Grove Historic District, Around Asbury St., Hamilton, 09000935, Listed, 11/18/09

Middlesex County

Middlesex Canal Historic and Archaeological District, Address Restricted, Boston vicinity, 09000936, Listed, 11/19/09

MISSOURI

St. Louis Independent City

Pevely Dairy Company Plant, 1001 S. Grand, 3626 Chouteau, 1101 Motard, St. Louis, 09000937, Listed, 11/18/09

NEBRASKA

Douglas County

Anderson Building, The, 701 S. 24th St., 2243 Jones, Omaha, 09000938, Listed, 11/20/09, (Apartments, Flats and Tenements in Omaha, Nebraska from 1880-1962)

NEW JERSEY

Cape May County

Flanders, Hotel, The, 719 E. 11th St., Ocean City, 09000939, Listed, 11/20/09

Somerset County

Olcott Avenue Historic District, Portions of Olcott, Childsworth, and Highview Avenues, and Church St., Bernardsville Borough, 09000940, Listed, 11/20/09

NEW YORK

Broome County

Emmanuel Church of the Evangelical Association of Binghamton, 80 Front St., Binghamton, 09000941, Listed, 11/20/09

OREGON

Multnomah County

Keller, Edward H. and Bertha R., House, 3028 NE Alameda St., Portland, 09000943, Listed, 11/20/09

SOUTH DAKOTA

Gregory County

St. Augustine Church, SE. Corner of 6th St. and Main St., Dallas, 09000944, Listed, 11/20/09

Gregory County

St. John's Catholic Church, Section 31 R96W 73N Dickens Township, Dallas vicinity, 09000945, Listed, 11/20/09

Lincoln County

Byrnes House, 525 N. Broadway St., Canton, 09000946, Listed, 11/18/09

Tripp County

Tripp County Veteran's Memorial, 200 E. Third St., Winner, 09000947, Listed, 11/17/09

TENNESSEE

Greene County

Conway Bridge, Briar Thicket Rd./Knob Creek Rd. over the Nolichucky River, Briar Thicket vicinity, 09000948, Listed, 11/20/09

Hamilton County

Engel Stadium, O'Neal St. and E. 3rd St., Chattanooga, 09000954, Listed, 11/19/09

Hamilton County

First Presbyterian Church, 554 McCallie Ave., Chattanooga, 09000955, Listed, 11/18/09

Hamilton County

Jones, Clarence T., Observatory, 10 N. Tuxedo Ave., Chattanooga, 09000949, Listed, 11/20/09

Johnson County

Vaught, Dr. Wiley Wagner, Office, W.W. Vaught Ln., S. of Dug Hill Rd., Mountain City vicinity, 09000950, Listed, 11/20/09

Smith County

Hull, Cordell, Bridge, Cordell Hull Bridge St. over the Cumberland River, Carthage, 09000951, Listed, 11/20/09

TEXAS

McLennan County

Castle Heights Historic District Roughly bounded by Waco Dr. (US 84), Oriental Rd., Franklin Ave., and 39th St., Waco, 07000495, Listed, 11/17/09

VIRGINIA

Norfolk Independent City

Virginia Ice & Freezing Corporation Cold Storage Warehouse, 835 Southampton Ave., Norfolk, 09000922, Listed, 11/13/09

WISCONSIN

Door County

GREEN BAY shipwreck (sloop), Address Restricted, Sevastopol vicinity, 09000952, Listed, 11/18/09, (Great Lakes Shipwreck Sites of Wisconsin MPS)

[FR Doc. 2010-2796 Filed 2-8-10; 8:45 am]

BILLING CODE 4312-51-P